DEPARTMENT OF JUSTICE

Notice of Lodging of a Consent Decree Under the Comprehensive Environmental Response, Compensation, and Liability Act

Notice is hereby given that on January 10, 2011, a proposed Consent Decree in United States v. Western Reman Industrial Inc., Civil Action No. 11-cv-00008 was lodged with the United States District Court for the Northern District of Indiana.

In this action, the United States alleges that the Defendant is liable under Sections 107 and 113(g)(2) of the Comprehensive Environmental Response, Compensation, and Liability Act of 1980, as amended (“CERCLA”), 42 U.S.C. 9607 and 9613(g)(2), for the recovery of response costs incurred and to be incurred by the United States at the Building 190 at the former Grissom Air Force Base, located at 1175 North Hoosier Boulevard, Peru, Indiana (“Site” or “Building 190 Site”). Under the proposed Consent Decree, Defendant will reimburse the United States $300,000 in past and future response costs.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States v. Western Reman Industrial Inc., D.J. Ref. 90-11-2-09273.

During the public comment period, the proposed Consent Decree may be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.75 for a copy of the Consent Decree including all attachments (25 cents per page reproduction cost) payable to the U.S. Treasury or, if by e-mail or fax, forward a check in that amount to the Consent Decree Library at the stated address.

Maureen Katz,
Assistant Chief, Environmental Enforcement Section, Environment and Natural Resources Division.

[FR Doc. 2011-861 Filed 1-14-11; 8:45 am]

BILLING CODE 4410-15-P